NATIONAL SCIENCE FOUNDATION

Sunshine Act Meetings

The National Science Board's (NSB) Committee on Science and Engineering Policy hereby gives notice of the scheduling of videoconferences for the transaction of National Science Board business pursuant to the National Science Foundation Act and the Government in the Sunshine Act.

TIME AND DATE: Wednesday, January 4, 2023, from 3:00 p.m.-3:30 p.m. EST.

Tuesday, January 10, 2023, from 3:00 p.m.-3:30 p.m. EST

PLACE: These meetings will be held by videoconference through the National Science Foundation.

STATUS: Open

MATTERS TO BE CONSIDERED: The agenda for the January 4 meeting is: Chair's opening remarks; discussion of the narrative outline for the SEI 2024 Innovation thematic report.

The agenda for the January 10 meeting is: Chair's opening remarks; discussion of the narrative outline for the SEI 2024 Publications thematic report.

CONTACT PERSON FOR MORE INFORMATION: Point of contact for this meeting is: (Chris Blair, cblair@nsf.gov), 703/292-7000.

The link to a You Tube livestream for the January 4 meeting is https://www.youtube.com/watch?v=ucXG9obIV_Y.

The link to a You Tube livestream for the January 10 meeting is https://www.youtube.com/watch?v=2JkKE1qLBHs.

Christopher Blair,
Executive Assistant to the National Science Board Office.

[FR Doc. 2022-27847 Filed 12-19-22; 4:15 pm]

BILLING CODE 7555-01-P